DEPARTMENT OF JUSTICE

Notice of Lodging of Stipulated Order To Amend Consent Judgment Under Environmental Laws and Partially Substitute Parties

Notice is hereby given that on October 8, 2004, a proposed Stipulated Order was lodged with the United States District Court for the Eastern District of Michigan in United States v. Velsicol Chemical Corp., No. 82-10303 (E.D. Mich.). The Stipulated Order among the United States on behalf of the Environmental Protection Agency, the State of Michigan, and Velsicol Chemical Corporation (“Velsicol”) would substitute the Custodial Trust created in the bankruptcy settlement agreement in In re Fruit of the Loom, Inc., No. 99-4497 (Bankr. D. Del.) for Velsicol and would resolve Velsicol's obligations under the 1982 Consent Judgment as provided in the Stipulated Order and the bankruptcy settlement agreement. The 1982 Consent Judgment concerns the St. Louis Facility in St. Louis, Gratiot County, Michigan.

The Department of Justice will receive comments relating to the Stipulated Order for a period of thirty (30) days from the date of this publication. Comments should be addressed to the Assistant Attorney General, Environment and Natural Resources Division, P.O. Box 7611, U.S. Department of Justice, Washington, DC 20044-7611, and should refer to United States v. Velsicol Chemical Corporation, DJ Ref. No. 90-7-1-105.

The Stipulated Order may be examined at the Office of the United States Attorney for the Eastern District of Michigan, 211 West Fort Street, Suite 2001, Detroit, Michigan, and at the Region 5 Office of the United States Environmental Protection Agency, 77 West Jackson Boulevard, Chicago, Illinois. During the public comment period, the Stipulated Order may also be examined on the following Department of Justice Web site, http://www.usdoj.gov/enrd/open.html. A copy of the Stipulated Order may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $27.75 (25 cents per page reproduction cost) payable to the U.S. Treasury for the entire Stipulated Order and attachments or the amount of $3.00 for the Stipulated Order without attachments.

Bruce S. Gelber,
Section Chief, Environmental Enforcement Section, Environment and Natural Resources Division.

[FR Doc. 04-23095 Filed 10-13-04; 8:45 am]

BILLING CODE 4410-15-M